COMMISSION ON CIVIL RIGHTS

Agenda and Notice of Public Meeting of the Rocky Mountain Region Advisory Committees (Includes: CO, MT, NM, ND, SD, UT, WY)

Notice is hereby given, pursuant to the provisions of the rules and regulations of the U.S. Commission on Civil Rights, that a conference call of the Rocky Mountain Region State Advisory Committees (which include CO, MT, NM, ND, SD, UT, and WY) will convene at 12 p.m. (MDT) and adjourn at 1:30 p.m. (MDT), Wednesday, September 22, 2004. The purpose of the conference call is to review status of 7-state regional project, Confronting Discrimination in Reservation Border Town Communities, conduct strategic planning, and discuss projected activities and status of Commission and regional programs.

This conference call is available to the public through the following call-in number: 1-800-659-1081; access code: 25866558. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Evelyn Bohor, Rocky Mountain Regional Office, (303) 866-1040 (TDD 303-866-1049), by 3 p.m. (MDT) on Monday, September 20, 2004.

The meeting will be conducted pursuant to the provisions of the rules and regulations of the Commission.

Dated at Washington, DC, August 23, 2004.
Ivy L. Davis,
Chief, Regional Programs Coordination Unit.

[FR Doc. 04-19707 Filed 8-27-04; 8:45 am]

BILLING CODE 6335-01-P